SECURITIES AND EXCHANGE COMMISSION

[File No. 500-1]:

In The Matter of: Artfest International, Inc; Order of Suspension of Trading

JUNE 6, 2011.

It appears to the Securities and Exchange Commission that there is a lack of current and accurate information concerning the securities of Artfest International, Inc. (“Artfest”) because of questions regarding the accuracy and adequacy of assertions by Artfest, in its 2010 Form 10-K and amended Form 10-K filed with the Commission, concerning, among other things, an independent audit of Artfest's financial statements for the fiscal year ended December 31, 2010, which was not performed, and financial statements for the 2010 period that are referenced in the filings as “audited,” when they were not.

The Commission is of the opinion that the public interest and the protection of investors require a suspension of trading in the securities of the above-listed company.

Therefore, It Is Ordered, pursuant to Section 12(k) of the Securities Exchange Act of 1934, that trading in the securities of the above-listed company is suspended for the period from 9:30 a.m. EDT on Monday, June 6, 2011 and terminating at 11:59 p.m. E.D.T. on Friday, June 17, 2011.

By the Commission.
Elizabeth M. Murphy,
Secretary.

[FR Doc. 2011-14285 Filed 6-6-11; 4:15 pm]

BILLING CODE 8011-01-P